DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on October 11, 2005, and comments were due by December 12, 2005. No comments were received.

DATES: Comments must be submitted on or before January 23, 2005.

FOR FURTHER INFORMATION CONTACT: Thomas Christensen, Maritime Administration, 400 Seventh Street Southwest, Washington, DC 20590. Telephone: 202-366-5909; FAX: 202-493-2180; or e-mail: tom.christensen@dot.gov. Copies of this collection also can be obtained from that office.

SUPPLEMENTARY INFORMATION: Maritime Administration (MARAD).

Title: Effective U.S. Control (EUSC)/Parent Company.

OMB Control Number: 2133-0511.

Type of Request: Extension of currently approved collection.

Affected Public: U.S. citizens who own foreign-registered vessels.

Forms: None.

Abstract: The Effective U.S. Control (EUSC) Parent Company collection consists of an inventory of foreign-registered vessels owned by U.S. citizens. Specifically, the collection consists of responses from vessel owners verifying or correcting vessel ownership data and characteristics found in commercial publications. The information obtained could be vital in a national or international emergency, and is essential to the logistical support planning operations conducted by MARAD officials. The information is used in contingency planning and provides data related to potential sealift capacity to support movement of fuel and military equipment to crisis zones.

Annual Estimated Burden Hours: 40 hours.

ADDRESSES: Send comments to the Office of Information and Regulatory Affairs, Office of Management and Budget, 725 17th Street Northwest, Washington, DC 20503, Attention MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Authority: 49 CFR 1.66.

Issued in Washington, DC, on December 16, 2005.
Joel C. Richard,
Secretary, Maritime Administration.

[FR Doc. E5-7727 Filed 12-21-05; 8:45 am]

BILLING CODE 4910-81-P